DEPARTMENT OF ENERGY

Federal Energy Regulatory Commission

[Docket No. RP01-548-000]

Maritimes & Northeast Pipeline, L.L.C.; Notice of Tariff Filing and Annual Charge Adjustment

September 7, 2001.

Take notice that on August 31, 2001 Maritimes & Northeast Pipeline, L.L.C. (Maritimes) tendered for filing as part of its FERC Gas Tariff, First Revised Volume No. 1, the following tariff sheets to become effective October 1, 2001:

First Revised Sheet No. 7

First Revised Sheet No. 8

First Revised Sheet No. 12

First Revised Sheet No. 13

First Revised Sheet No. 14

Maritimes states that the purpose of this filing is to update Maritimes rates for the inclusion of the applicable Annual Charge Adjustment (ACA) pursuant to Section 21 of the General Terms and Conditions of Maritimes FERC Gas Tariff. Maritimes states that its initial ACA Unit Surcharge authorized by the Commission is $0.0022 per Dth. Maritimes also proposes to remove the Gorham Energy Lateral and the Haverhill/Essex County Lateral rates that are no longer applicable from its MNLFT Rate Schedule.

Maritimes states that copies of this filing were mailed to all customers of Maritimes and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-23113 Filed 9-14-01; 8:45 am]

BILLING CODE 6717-01-P